ENVIRONMENTAL PROTECTION AGENCY

[FRL-7883-2]

Clean Water Act Section 303(d): Availability of 1 Total Maximum Daily Loads (TMDL)

AGENCY: Environmental Protection Agency (EPA).

ACTION: Notice of availability.

SUMMARY: This notice announces the availability for comment of the administrative record file for 1 TMDL and the calculations for this TMDL prepared by EPA Region 6 for waters listed in the State of Arkansas under section 303(d) of the Clean Water Act (CWA). This TMDL was completed in response to the lawsuit styled Sierra Club, et al. v. Browner, et al., No. LR-C-99-114.

DATES: Comments must be submitted in writing to EPA on or before April 11, 2005.

ADDRESSES: Comment on the 1 TMDL should be sent to Diane Smith, Environmental Protection Specialist, Water Quality Protection Division, U.S. Environmental Protection Agency Region 6, 1445 Ross Ave., Dallas, TX 75202-2733, facsimile (214) 665-7373, or e-mail: smith.diane@epa.gov. For further information, contact Diane Smith at (214) 665-2145. Documents from the administrative record file for this TMDL are available for public inspection at this address as well. Documents from the administrative record file may be viewed at http://www.epa.gov/region6/water/artmdl.htm, or obtained by calling or writing Ms. Smith at the above address. Please contact Ms. Smith to schedule an inspection.

FOR FURTHER INFORMATION CONTACT: Diane Smith at (214) 665-2145.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Browner, et al., No. LR-C-99-114. Among other claims, plaintiffs alleged that EPA failed to establish Arkansas TMDLs in a timely manner. EPA proposes this TMDL pursuant to a consent decree entered in this lawsuit.

EPA Seeks Comments on 1 TMDL

By this notice EPA is seeking comment on the following 1 TMDL for waters located within the State of Arkansas:

Segment-reach | Waterbody name | Pollutant
11140302-003 | Days Creek | Nitrate.

EPA requests that the public provide to EPA any water quality related data and information that may be relevant to the calculations for this 1 TMDL. EPA will review all data and information submitted during the public comment period and revise the TMDL and determinations where appropriate. EPA will then forward the TMDL to the Arkansas Department of Environmental Quality (ADEQ). The ADEQ will incorporate the TMDL into its current water quality management plan.

Dated: March 3, 2005.
Miguel I. Flores,
Director, Water Quality Protection Division, Region 6.

[FR Doc. 05-4712 Filed 3-9-05; 8:45 am]

BILLING CODE 6560-50-P